DEPARTMENT OF THE TREASURY

Community Development Financial Institutions Fund

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Community Development Financial Institutions Fund (the “Fund”), within the Department of the Treasury, is soliciting comments concerning the Native American CDFI Assistance (NACA) Program Application.

DATES: Written comments should be received on or before September 10, 2007 to be assured of consideration.

ADDRESSES: Direct all written comments to Linda G. Davenport, Deputy Director for Policy and Programs, Community Development Financial Institutions Fund, U.S. Department of the Treasury, 601 13th Street, NW., Suite 200 South, Washington, DC 20005, Facsimile Number (202) 622-7754.

FOR FURTHER INFORMATION CONTACT: A copy of the draft NACA Program Application or requests for additional information may be obtained by contacting: Ruth Jaure, Program Manager, Community Development Financial Institutions Fund, U.S. Department of the Treasury, 601 13th Street, NW., Suite 200 South, Washington, DC 20005; or by phone to (202) 622-8662.

SUPPLEMENTARY INFORMATION: Title: Native American CDFI Assistance (NACA) Program Application.

OMB Number: 1559-0025.

Abstract: The Community Development Banking and Financial Institutions Act of 1994 (12 U.S.C. 4701 et seq.) (the “Act”) authorizes the Community Development Financial Institutions Fund (the “Fund”) of the U.S. Department of the Treasury to promote economic revitalization and community development through investment in and assistance to Fund-certified community development financial institutions (“CDFIs”) through the CDFI Program. The Revised Continuing Appropriations Resolution, 2007 (Pub. L. 110-5) authorizes the Fund to provide financial assistance and technical assistance to benefit Native American Communities, with such benefit being provided primarily through qualified community development lender organizations with experience and expertise in community development banking and lending in Indian country, Native American organizations, Tribes and tribal organizations and other suitable providers.

Through the NACA Program, the Fund provides (i) FA and/or TA awards to Native CDFIs and entities that can be certified as Native CDFIs at time of award; and (ii) TA awards to entities that propose to become Native CDFIs within two years and “Sponsoring Entities” (e.g., Native American organizations, Tribes, Tribal organizations) that propose to create separate legal entities that will become Native CDFIs within three years.

Type of Review: Revision.

Affected Public: Not-for-profit institutions; state, local or tribal government and tribal entities; and businesses or other for-profit institutions.

Estimated Number of Respondents: 40.

Estimated Annual Time per Respondent: 65 hours.

Estimated Total Annual Burden Hours: 2,600 hours.

Request for Comments: Comments submitted in response to this notice will be summarized and/or included in the request for OMB approval. All comments will become a matter of public record. Comments are invited on: (a) Whether the collection of information is necessary for the proper performance of the functions of the Fund, including whether the information shall have practical utility; (b) the accuracy of the Fund's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Authority: Pub. L. No. 107-73; Pub. L. No. 110-5.

Dated: June 29, 2007.
Kimberly A. Reed,
Director, Community Development Financial Institutions Fund.

[FR Doc. E7-13331 Filed 7-9-07; 8:45 am]

BILLING CODE 4810-70-P